DEPARTMENT OF COMMERCE

Foreign-Trade Zones Board

[B-61-2016]

Foreign-Trade Zone (FTZ) 79—Tampa, Florida, Notification of Proposed Production Activity, Givaudan Flavors Corporation (Flavor Compounds), Lakeland, Florida

Givaudan Flavors Corporation (Givaudan) submitted a notification of proposed production activity to the FTZ Board for its facility in Lakeland, Florida within FTZ 79. The notification conforming to the requirements of the regulations of the FTZ Board (15 CFR 400.22) was received on September 12, 2016.

The Givaudan facility is used for the production of flavor compounds. Pursuant to 15 CFR 400.14(b), FTZ activity would be limited to the specific foreign-status materials and components and specific finished products described in the submitted notification (as described below) and subsequently authorized by the FTZ Board.

Production under FTZ procedures could exempt Givaudan from customs duty payments on the foreign status components used in export production. On its domestic sales, Givaudan would be able to choose the duty rates during customs entry procedures that apply to cocoa food preparations, dairy food preparations, coffee food preparations, seasonings, sauces, alcoholic preparations for beverages, other food preparations with dairy, confectionary preparations without sugar, other food preparations, food articles containing sugar, other cyclanes, cyclenes and cycloterpenes, other cyclic hydrocarbons, acyclic terpene alcohols, butanoic acids, pentanoic acids, their salts and esters, concentrated orange oil, concentrated lemon oil, citrus oil blends, aqueous distillates and aqueous solutions of essential oils, terpenic by-products of the deterpenation of essential oils, flavor preparations for food or drink without alcohol, flavor preparations for food or drink with alcohol, odoriferous substances other than food or drink or perfume bases with alcohol, odiferous substances other than food or drink or perfume bases without alcohol (duty rate ranges from free to 70.4c/kg + 8.5%) for the foreign status inputs noted below. Customs duties also could possibly be deferred or reduced on foreign status production equipment.

The materials sourced from abroad include benzaldehyde, vanillin, orange oil, concentrated orange oil, lemon oil, and concentrated lemon oil (duty rate ranges from 2.7% to 5.5%).

Public comment is invited from interested parties. Submissions shall be addressed to the FTZ Board's Executive Secretary at the address below. The closing period for their receipt is October 31, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: September 15, 2016.
Andrew McGilvray,
Executive Secretary.

[FR Doc. 2016-22769 Filed 9-20-16; 8:45 am]

BILLING CODE 3510-DS-P